DEPARTMENT OF THE TREASURY

Submission for OMB Review; Comment Request

July 22, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before August 28, 2008 to be assured of consideration.

Internal Revenue Service (IRS)

OMB Number: 1545-1946.

Type of Review: Extension.

Title: PS-262-82 (Final) Definition of an S Corporation.

Description: Section 1503(d) denies the use of the losses of one domestic corporation by another affiliated domestic corporation where the loss corporation is also subject to the income tax of a foreign country. This final regulation permits the domestic use of the loss if the loss has not been used in the foreign country provided a domestic use agreement is filed with the income tax return of the domestic affiliated group or domestic owner agreeing to recapture the loss into income upon a future foreign use of the loss.

Respondents: Businesses or other for-profit institutions.

Estimated Total Burden Hours: 2,740 hours.

OMB Number: 1545-1947.

Type of Review: Extension.

Title: REG-105346-03 (NPRM)—Partnership Equity For Services.

Form: 8609.

Description: The regulations provide that the transfer of a partnership interest in connection with the performance of services is subject to section 83 of the Code and provide rules for coordinating section 83 with partnership taxation principles.

Respondents: Businesses or other for-profit institutions.

Estimated Total Burden Hours: 112,500 hours.

OMB Number: 1545-0854.

Type of Review: Extension.

Title: LR-1214 (Final) Discharge of Liens.

Description: The Internal Revenue Service needs this information to determine if the taxpayer has equity in the property. This information will be used to determine the amount, if any, to which the tax lien attaches.

Respondents: Businesses or other for-profit institutions.

Estimated Total Burden Hours: 200 hours.

OMB Number: 1545-1244.

Type of Review: Extension.

Title: PS-39-89 Limitation on Passive Activity Losses and Credits—Treatment on Self-Charged Items of Income and Expense.

Description: The IRS will use this information to determine whether the entity has made a proper timely election and to determine that taxpayers are complying with the election in the taxable year of the election and subsequent taxable years.

Respondents: Businesses or other for-profit institutions.

Estimated Total Burden Hours: 150 hours.

OMB Number: 1545-1771.

Type of Review: Extension.

Title: Revenue Procedure 2002-15, Automatic Relief for Late Initial Entity Classification Elections—Check the Box.

Description: 26 CFR Sec. 301.9100-1 and Sec. 301-9100-3 provide the Internal Revenue Service with authority to grant relief for late entity classification elections. This revenue procedure provides that, in certain circumstances, taxpayers whose initial entity classification election was filed late can obtain relief by filing Form 8832 and attaching a statement explaining that the requirements of the revenue procedure have been met.

Respondents: Businesses or other for-profit institutions.

Estimated Total Burden Hours: 100 hours.

OMB Number: 1545-0863.

Type of Review: Extension.

Title: LR-218-78 (Final) Product Liability Losses and Accumulations for Product Liability Losses.

Description: Generally, a taxpayer who sustains a product liability loss must carry the loss back 10 years. However, a taxpayer may elect to have such losses treated as a regular net operating loss under section 172. If desired, such election is made by attaching a statement to the tax return. This statement will enable the IRS to monitor compliance with the statutory requirements.

Respondents: Businesses or other for-profit institutions.

Estimated Total Burden Hours: 2,500 hours.

OMB Number: 1545-1945.

Type of Review: Extension.

Title: Revenue Procedure 2001-21 Debt Roll-Ups.

Description: This revenue procedure provides for an election that will facilitate the consolidation of two or more outstanding debt instruments into a single debt instrument. Under the election, taxpayers can treat certain exchanges of debt instruments as realization events for federal income tax purposes even though the exchanges do not result in significant modifications under Sec. 1.1001-33 of the Income Tax Regulations.

Respondents: Businesses and other for-profit institutions.

Estimated Total Burden Hours: 75 hours.

OMB Number: 1545-0897.

Type of Review: Extension.

Title: IA-62-91 (Final and Temporary) Capitalization and Inclusion in Inventory of Certain Costs.

Description: The paperwork requirements are necessary to determine whether taxpayers comply with the cost allocation rules of section 263A and with the requirements for changing their methods of accounting. The information will be used to verify taxpayers' changes in methods of accounting.

Respondents: Businesses or other for-profit institutions.

Estimated Total Burden Hours: 100,000 hours.

OMB Number: 1545-0897.

Type of Review: Extension.

Title: REG-208156-91 (Final) Accounting for Long-Term Contracts.

Description: The information collected is required to notify the Commissioner of a taxpayer's decision to sever or aggregate one or more long-term contracts under the regulations. The statement is needed so the Commissioner can determine whether the taxpayer properly severed or aggregated its contract(s). The regulations affect any taxpayer that manufactures or constructs property under long-term contracts.

Respondents: Businesses or other for-profit institutions.

Estimated Total Burden Hours: 12,500 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E8-17267 Filed 7-28-08; 8:45 am]

BILLING CODE 4830-01-P